DEPARTMENT OF THE INTERIOR

Office of the Secretary

Establishment Notice

AGENCY: Minerals Management Service, Interior.

ACTION: Notice of establishment of the Royalty Policy Committee.

SUMMARY: Following consultation with the General Services Administration, notice is hereby given that the Secretary of the Interior has established the Royalty Policy Committee.

The Royalty Policy Committee will provide advice related to the performance of discretionary functions under the laws governing the Department of the Interior management of Federal and Indian mineral leases and revenues. The Committee will review and comment on revenue management and other mineral-related policies and provide a forum to convey views representative of mineral lessees, operators, revenue payors, revenue recipients, governmental agencies, and the interested public.

FOR FURTHER INFORMATION CONTACT: Gary Fields, Minerals Management Service, Minerals Revenue Management, Denver, Colorado 80225-0165, telephone, (303) 231-3102.

Certification

I hereby certify that the Royalty Policy Committee is in the public interest in connection with the performance of duties imposed on the Department of the Interior by 43 U.S.C. 1331 et. seq., 30 U.S.C. 1701 et. seq., and 30 U.S.C. 1001 et. seq.

Dated: February 27, 2004.
Gale A. Norton,
Secretary of the Interior.

[FR Doc. 04-8424 Filed 4-13-04; 8:45 am]

BILLING CODE 4310-MR-P